Title 3—

The President

Proclamation 8943 of March 25, 2013

Establishment of the Harriet Tubman—Underground Railroad National Monument

By the President of the United States of America

A Proclamation

Harriet Tubman is an American hero. She was born enslaved, liberated herself, and returned to the area of her birth many times to lead family, friends, and other enslaved African Americans north to freedom. Harriet Tubman fought tirelessly for the Union cause, for the rights of enslaved people, for the rights of women, and for the rights of all. She was a leader in the struggle for civil rights who was forever motivated by her love of family and community and by her deep and abiding faith.

Born Araminta Ross in 1822 in Dorchester County, Maryland, on the plantation where her parents were enslaved, she took the name “Harriet” at the time she married John Tubman, a free black man, around 1844. Harriet Tubman lived and worked enslaved in this area from her childhood until she escaped to freedom at age 27 in 1849. She returned to Dorchester County approximately 13 times to free family, friends, and other enslaved African Americans, becoming one of the most prominent “conductors” on the Underground Railroad. In 1859, she purchased a farm in Auburn, New York, and established a home for her family and others, which anchored the remaining years of her life. In the Civil War she supported the Union forces as a scout, spy, and nurse to African-American soldiers on battlefields and later at Fort Monroe, Virginia. After the war, she established the Harriet Tubman Home for the Aged, which institutionalized a pattern of her life—caring for African Americans in need.

In 1868, the great civil rights leader Frederick Douglass wrote to Harriet Tubman:

I have had the applause of the crowd and the satisfaction that comes of being approved by the multitude, while the most that you have done has been witnessed by a few trembling, scarred, and foot-sore bondmen and women, whom you have led out of the house of bondage, and whose heartfelt “God bless you” has been your only reward. The midnight sky and the silent stars have been the witnesses of your devotion to freedom and of your heroism.

The “midnight sky and the silent stars” and the Dorchester County landscape of Harriet Tubman's homeland remain much as they were in her time there. If she were to return to this area today, Harriet Tubman would recognize it.

It was in the flat, open fields, marsh, and thick woodlands of Dorchester County that Tubman became physically and spiritually strong. Many of the places in which she grew up and worked still remain. Stewart's Canal at the western edge of this historic area was constructed over 20 years by enslaved and free African Americans. This 8-mile long waterway, completed in the 1830s, connected Parsons Creek and Blackwater River with Tobacco Stick Bay (known today as Madison Bay) and opened up some of Dorchester's more remote territory for timber and agricultural products to be shipped to Baltimore markets. Tubman lived near here while working for John T. Stewart. The canal, the waterways it opened to the Chesapeake Bay, and the Blackwater River were the means of conveying goods, lumber, and those seeking freedom. And the small ports were places for connecting the enslaved with the world outside the Eastern Shore, places on the path north to freedom.

Near the canal is the Jacob Jackson Home Site, 480 acres of flat farmland, woodland, and wetland that was the site of one of the first safe houses along the Underground Railroad. Jackson was a free black man to whom Tubman appealed for assistance in 1854 in attempting to retrieve her brothers and who, because he was literate, would have been an important link in the local communication network. The Jacob Jackson Home Site has been donated to the United States.

Further reinforcing the historical significance and integrity of these sites is their proximity to other important sites of Tubman's life and work. She was born in the heart of this area at Peter's Neck at the end of Harrisville Road, on the farm of Anthony Thompson. Nearby is the farm that belonged to Edward Brodess, enslaver of Tubman's mother and her children. The James Cook Home Site is where Tubman was hired out as a child. She remembered the harsh treatment she received here, long afterward recalling that even when ill, she was expected to wade into swamps throughout the cold winter to haul muskrat traps. A few miles from the James Cook Home Site is the Bucktown Crossroads, where a slave overseer hit the 13-year-old Tubman with a heavy iron as she attempted to protect a young fleeing slave, resulting in an injury that affected Tubman for the rest of her life. A quarter mile to the north are Scotts Chapel and the associated African-American graveyard. The church was founded in 1812 as a Methodist congregation. Later, in the mid-19th century, African Americans split off from the congregation and formed Bazel Church. Across from Scotts Chapel is an African-American graveyard with headstones dating to 1792. Bazel Church is located nearby on a 1-acre clearing edged by the road and otherwise surrounded by cultivated fields and forest. According to tradition, this is where African Americans worshipped outdoors during Tubman's time.

The National Park Service has found this landscape in Dorchester County to be nationally significant because of its deep association with Tubman and the Underground Railroad. It is representative of the landscape of this region in the early and mid-19th century when enslavers and enslaved worked the farms and forests. This is the landscape where free African Americans and the enslaved led a clandestine movement of people out of slavery towards the North Star of freedom. These sites were places where enslaved and free African Americans intermingled. Moreover, these sites fostered an environment that enabled free individuals to provide aid and guidance to those enslaved who were seeking freedom. This landscape, including the towns, roads, and paths within it, and its critical waterways, was the means for communication and the path to freedom. The Underground Railroad was everywhere within it.

Much of the landscape in Dorchester County that is Harriet Tubman's homeland, including a portion of Stewart's Canal, is now part of Blackwater National Wildlife Refuge. The Refuge provides vital habitat for migratory birds, fish, and wildlife that are components of this historic landscape. Management of the Refuge by the U.S. Fish and Wildlife Service has played an important role in the protection of much of the historic landscape that was formative to Harriet Tubman's life and experiences. The Refuge has helped to conserve the landscape since 1933 and will continue to conserve, manage, and restore this diverse assemblage of wetlands, uplands, and aquatic habitats that play such an important role in telling the story of the cultural history of the area. In the midst of this landscape, the State of Maryland is developing the Harriet Tubman Underground Railroad State Park on a 17-acre parcel. The State of Maryland and the Federal Government will work closely together in managing these special places within their respective jurisdictions to preserve this critically important era in American history.

Harriet Tubman is revered by many as a freedom seeker and leader of the Underground Railroad. Although Harriet Tubman is known widely, no Federal commemorative site has heretofore been established in her honor, despite the magnitude of her contributions and her national and international stature.

WHEREAS members of the Congress, the Governor of Maryland, the City of Cambridge, and other State, local, and private interests have expressed support for the timely establishment of a national monument in Dorchester County commemorating Harriet Tubman and the Underground Railroad to protect the integrity of the evocative landscape and preserve its historic features;

WHEREAS section 2 of the Act of June 8, 1906 (34 Stat. 225, 16 U.S.C. 431) (the “Antiquities Act”), authorizes the President, in his discretion, to declare by public proclamation historic landmarks, historic and prehistoric structures, and other objects of historic or scientific interest that are situated upon the lands owned or controlled by the Government of the United States to be national monuments, and to reserve as a part thereof parcels of land, the limits of which in all cases shall be confined to the smallest area compatible with the proper care and management of the objects to be protected;

WHEREAS it is in the public interest to preserve and protect the objects of historic and scientific interest associated with Harriet Tubman and the Underground Railroad in Dorchester County, Maryland;

NOW, THEREFORE, I, BARACK OBAMA, President of the United States of America, by the authority vested in me by section 2 of the Antiquities Act, hereby proclaim, set apart, and reserve as the Harriet Tubman—Underground Railroad National Monument (monument), the objects identified above and all lands and interests in lands owned or controlled by the Government of the United States within the boundaries described on the accompanying map, which is attached to and forms a part of this proclamation, for the purpose of protecting those objects. These reserved Federal lands and interests in lands encompass approximately 11,750 acres, which is the smallest area compatible with the proper care and management of the objects to be protected.

All Federal lands and interests in lands within the boundaries of this monument are hereby appropriated and withdrawn from all forms of entry, location, selection, sale, leasing, or other disposition under the public land laws, including withdrawal from location, entry, and patent under the mining laws, and from disposition under all laws relating to mineral and geothermal leasing.

The establishment of this monument is subject to valid existing rights. Lands and interests in lands within the boundaries of the monument that are not owned or controlled by the United States shall be reserved as part of the monument upon acquisition of ownership or control by the United States.

The Secretary of the Interior (Secretary) shall manage the monument through the National Park Service and the U.S. Fish and Wildlife Service, pursuant to their respective applicable legal authorities, to implement the purposes of this proclamation. The National Park Service shall have the general responsibility for administration of the monument, including the Jacob Jackson Home Site, subject to the responsibility and jurisdiction of the U.S. Fish and Wildlife Service to administer the portions of the national monument that are within the National Wildlife Refuge System. When any additional lands and interests in lands are hereafter acquired by the United States within the monument boundaries, the Secretary shall determine whether such lands will be administered as part of the National Park System or the National Wildlife Refuge System. Hunting and fishing within the National Wildlife Refuge System shall continue to be administered by the U.S. Fish and Wildlife Service in accordance with the provisions of the National Wildlife Refuge System Administration Act and other applicable laws.

Consistent with applicable laws, the National Park Service and the U.S. Fish and Wildlife Service shall enter into appropriate arrangements to share resources and services necessary to properly manage the monument. Consistent with applicable laws, the National Park Service shall offer to enter into appropriate arrangements with the State of Maryland for the efficient and effective cooperative management of the monument and the Harriet Tubman—Underground Railroad State Park.

The Secretary shall prepare a management plan for the monument, with full public involvement, within 3 years of the date of this proclamation. The management plan shall ensure that the monument fulfills the following purposes for the benefit of present and future generations: (1) to preserve the historic and scientific resources identified above, (2) to commemorate the life and work of Harriet Tubman, and (3) to interpret the story of the Underground Railroad and its significance to the region and the Nation as a whole. The management plan shall set forth, among other provisions, the desired relationship of the monument to other related resources, programs, and organizations in the region and elsewhere.

Nothing in this proclamation shall be deemed to revoke any existing withdrawal, reservation, or appropriation; however, the monument shall be the dominant reservation.

Warning is hereby given to all unauthorized persons not to appropriate, injure, destroy, or remove any feature of the monument and not to locate or settle upon any of the lands thereof.

IN WITNESS WHEREOF, I have hereunto set my hand this twenty-fifth day of March, in the year of our Lord two thousand thirteen, and of the Independence of the United States of America the two hundred and thirty-seventh.

Billing code 3295-F3

[FR Doc. 2013-07399

Filed 3-27-13; 8:45 am]

Billing code 4310-10-C